DEPARTMENT OF TRANSPORTATION

Federal Aviation Administration

14 CFR Part 39

[Docket No. 2003-NM-276-AD; Amendment 39-13439; AD 2004-02-04]

RIN 2120-AA64

Airworthiness Directives; Dassault Model Falcon 900EX Series Airplanes

AGENCY: Federal Aviation Administration, DOT.

ACTION: Final rule; request for comments.

SUMMARY: This amendment adopts a new airworthiness directive (AD) that is applicable to all Dassault Model Falcon 900EX series airplanes. This action requires revising the airplane flight manual to advise the flightcrew about limitations on operating in icing conditions, and to require that the airplane be operated per these limitations. This action is necessary to ensure that the flightcrew is aware of the potential for reductions in climb performance in certain situations while operating in icing conditions, and the actions they must take to avoid this condition, which could result in an inability to avoid low-level obstacles during takeoff and consequent controlled flight into terrain. This action is intended to address the identified unsafe condition.

DATES: Effective February 13, 2004.

The incorporation by reference of certain publications listed in the regulations is approved by the Director of the Federal Register as of February 13, 2004.

Comments for inclusion in the Rules Docket must be received on or before March 1, 2004.

ADDRESSES: Submit comments in triplicate to the Federal Aviation Administration (FAA), Transport Airplane Directorate, ANM-114, Attention: Rules Docket No. 2003-NM-276-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2003-NM-276-AD” in the subject line and need not be submitted in triplicate. Comments sent via fax or the Internet as attached electronic files must be formatted in Microsoft Word 97 or 2000 or ASCII text.

The service information referenced in this AD may be obtained from Dassault Falcon Jet, P.O. Box 2000, South Hackensack, New Jersey 07606. This information may be examined at the FAA, Transport Airplane Directorate, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: The Direction Générale de l'Aviation Civile (DGAC), which is the airworthiness authority for France, recently notified the FAA that an unsafe condition may exist on all Dassault Model Falcon 900EX series airplanes. The DGAC advises that a design review identified a situation in which use of bleed air during icing conditions, in a situation in which one engine on the airplane is not operating, could cause the remaining engines to exceed the maximum Inter-stage Turbine Temperature (ITT). This could induce a reduction in engine thrust. This condition, if not corrected, could result in a reduction in the airplane's climb performance, leading to an inability to avoid low-level obstacles during takeoff, and consequent controlled flight into terrain.

Explanation of Relevant Service Information

Dassault has issued the following Temporary Changes (TCs) to the Falcon 900EX Airplane Flight Manuals (AFM), Documents DTM561 and DGT84972:

• TC 63 to the Falcon 900EX AFM, Document DTM561; and TC 2 to the Falcon 900EX AFM, Document DGT84972; both dated December 17, 2003; which describe revisions to the Limitations, Performance, Emergency Procedures, and Abnormal Procedures sections of the AFM. The revisions to the Limitations and Performance sections advise the flightcrew of reductions in performance during operations in icing conditions. The revisions to the Emergency Procedures and Abnormal Procedures sections advise the flightcrew of the need to monitor ITT and make necessary adjustments in certain situations involving engine failure during icing conditions.

• TC 65 to the Falcon 900EX AFM, Document DTM561; and TC 5 to the Falcon 900EX AFM, Document DGT84972; both dated December 17, 2003; which describe revisions to the Performance section of the AFM to advise the flightcrew of reductions in expected performance during operations in icing conditions.

• Supplement 19 D, Revision 2, to the Falcon 900EX AFM, Document DTM561, dated December 17, 2003, which describes a revision to the Supplements section of the AFM for certain airplanes operating with certain software or modifications. This revision advises of limitations on operations with the anti-ice system activated.

The DGAC classified these TCs to the AFMs as mandatory and issued French emergency airworthiness directive U F-2003-464 to ensure the continued airworthiness of these airplanes in France.

FAA's Conclusions

This airplane model is manufactured in France and is type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to ensure that the flightcrew is aware of the potential for reductions in climb performance in certain situations while operating in icing conditions, and the actions they must take to avoid this condition, which could result in an inability to avoid low-level obstacles during takeoff and consequent controlled flight into terrain. This AD requires revising the AFM to advise the flightcrew about limitations on operating in icing conditions, and to require that the airplane be operated per these limitations.

Difference Between French Emergency Airworthiness Directive and This AD

For the AFM revisions, the French emergency airworthiness directive specifies a compliance time of before the next flight upon receipt of the emergency airworthiness directive. This AD provides a compliance time of 7 days after the effective date of this AD. In developing an appropriate compliance time for this AD, we considered the DGAC's recommendation, as well as the degree of urgency associated with the subject unsafe condition. In light of these factors, we find that a 7-day compliance time represents an appropriate interval of time for affected airplanes to continue to operate without compromising safety.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-276-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-02-04 Dassault Aviation: Amendment 39-13439. Docket 2003-NM-276-AD.

Applicability: All Model Falcon 900EX series airplanes, certificated in any category.

Compliance: Required as indicated, unless accomplished previously.

To ensure that the flightcrew is aware of the potential for reductions in climb performance in certain situations while operating in icing conditions, and the actions they must take to avoid this condition, which could result in an inability to avoid low-level obstacles during takeoff and consequent controlled flight into terrain, accomplish the following:

Airplane Flight Manual (AFM) Revisions

(a) Within 7 days after the effective date of this AD: Revise the Falcon 900EX AFM by accomplishing paragraphs (a)(1), (a)(2), and (a)(3) of this AD, as applicable, except as provided by paragraph (b) of this AD. Thereafter, operate the airplane per the limitations specified in these AFM revisions.

(1) Revise the Limitations, Performance, Emergency Procedures, and Abnormal Procedures sections of the AFM to include the information in Temporary Change (TC) 63 to the Falcon 900EX AFM, Document DTM561; or TC 2 to the Falcon 900EX AFM, Document DGT84972; both dated December 17, 2003; as applicable.

(2) Revise the Performance section of the AFM to include the information in TC 65 to the Falcon 900EX AFM, Document DTM561; or TC 5 to the Falcon 900EX AFM, Document DGT84972; both dated December 17, 2003; as applicable.

(3) Revise the Supplements section of the AFM to include the information in Supplement 19 D, Revision 2, to the Falcon 900EX AFM, Document DTM561, dated December 17, 2003.

Note 1: When information identical to that in the applicable TCs specified in paragraphs (a)(1), (a)(2), and (a)(3) of this AD, as applicable, has been included in the general revisions of the AFM, the general revisions may be inserted into the AFM, and the TCs may be removed from the AFM.

Alternative Methods of Compliance

(b) In accordance with 14 CFR 39.19, the Manager, International Branch, ANM-116, Transport Airplane Directorate, FAA, is authorized to approve alternative methods of compliance for this AD.

Incorporation by Reference

(c) The actions shall be done in accordance with Temporary Change 2 to the Falcon 900EX Airplane Flight Manual, Document DGT84972, dated December 17, 2003, and Temporary Change 5 to the Falcon 900EX Airplane Flight Manual, Document DGT84972, dated December 17, 2003; or Temporary Change 63 to the Falcon 900EX Airplane Flight Manual, Document DTM561, dated December 17, 2003, and Temporary Change 65 to the Falcon 900EX Airplane Flight Manual, Document DTM561, dated December 17, 2003, and Supplement 19 D, Revision 2, to the Falcon 900EX Airplane Flight Manual, Document DTM561, dated December 17, 2003; as applicable. (Only the first page of the Temporary Changes contain the document date; no other page of those documents contains this information.) Supplement 19 D, Revision 2, to the Falcon 900EX Airplane Flight Manual, DTM561, dated December 17, 2003, contains the following effective pages:

Page number | Revision level shown on page | Date shown on page
1, 5, 8 | Revision 1 | June 6, 2003.
2, 4 | Revision 2 | December 17, 2003.
3, 6, 7, 9, 10 | Original | May 4, 2001.

(The revision dates are only located in the Log of Pages and Revisions listed on page 2 of this Supplement; no other page contains this information.) This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 2: The subject of this AD is addressed in French emergency airworthiness directive U F-2003-464.

Effective Date

(d) This amendment becomes effective on February 13, 2004.

Issued in Renton, Washington, on January 20, 2004.
Michael Kaszycki,
Acting Manager, Transport Airplane Directorate, Aircraft Certification Service.

[FR Doc. 04-1770 Filed 1-28-04; 8:45 am]

BILLING CODE 4910-13-P